DEPARTMENT OF TRANSPORTATION

Federal Aviation Administration

14 CFR Part 39

[Docket No. FAA-2011-0811; Directorate Identifier 2011-CE-026-AD]

RIN 2120-AA64

Airworthiness Directives; Diamond Aircraft Industries Powered Sailplanes

AGENCY: Federal Aviation Administration (FAA), Department of Transportation (DOT).

ACTION: Notice of proposed rulemaking (NPRM).

SUMMARY: We propose to adopt a new airworthiness directive (AD) for Diamond Aircraft Industries Model H-36 “DIMONA” powered sailplanes. This proposed AD results from mandatory continuing airworthiness information (MCAI) originated by an aviation authority of another country to identify and correct an unsafe condition on an aviation product. The MCAI describes the unsafe condition as:

A report has been received of a failed air brake control system torsion tube on a Diamond (formerly Hoffman) H 36 powered sailplane. The results of the subsequent investigation show that the failure was due to corrosion damage.

This condition, if not detected and corrected, may lead to failure of the air brake control system in flight, resulting in reduced control of the aeroplane.

The proposed AD would require actions that are intended to address the unsafe condition described in the MCAI.

DATES: We must receive comments on this proposed AD by September 22, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Diamond Aircraft Industries GmbH, N.A. Otto-Straße 5, A-2700 Wiener Neustadt, Austria, telephone: +43 2622 26700; fax: +43 2622 26780; e-mail: office@diamond-air.at; Internet: http://www.diamond-air.at. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; e-mail: jim.rutherford@faa.gov.

SUPPLEMENTARY INFORMATION:

Comments Invited

We invite you to send any written relevant data, views, or arguments about this proposed AD. Send your comments to an address listed under the ADDRESSES section. Include “Docket No. FAA-2011-0811; Directorate Identifier 2011-CE-026-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued AD No. 2011-0110, dated June 16, 2011 (referred to after this as “the MCAI”), to correct an unsafe condition for the specified products. The MCAI states:

A report has been received of a failed air brake control system torsion tube on a Diamond (formerly Hoffman) H 36 powered sailplane. The results of the subsequent investigation show that the failure was due to corrosion damage.

This condition, if not detected and corrected, may lead to failure of the air brake control system in flight, resulting in reduced control of the aeroplane.

To address this unsafe condition, Diamond published Mandatory Service Bulletin (MSB) 36-105, containing instructions to test and inspect the air brake control system torsion tube for corrosion damage and, depending on findings, the application of anticorrosive agent to the inside of the torsion tube, or replacement of the torsion tube with a serviceable part.

For the reasons described above, this new AD requires repetitive tests and inspections of the air brake control system torsion tube and applicable corrective actions, depending on findings.

You may obtain further information by examining the MCAI in the AD docket.

Relevant Service Information

Diamond Aircraft Industries GmbH has issued Service Bulletin No. MSB 36-105/1, dated May 2, 2011, and Work Instruction WI-MSB 36-105, dated April 21, 2011. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

We estimate that this proposed AD will affect 9 products of U.S. registry. We also estimate that it would take about 4.5 work-hours per product to comply with the basic requirements of this proposed AD. The average labor rate is $85 per work-hour. Required parts would cost about $172 per product.

Based on these figures, we estimate the cost of the proposed AD on U.S. operators to be $4,990.50, or $554.50 per product.

In addition, we estimate that any necessary follow-on actions would take about 5 work-hours and require parts costing $275, for a cost of $700 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Diamond Aircraft Industries: Docket No. FAA-2011-0811; Directorate Identifier 2011-CE-026-AD.

Comments Due Date

(a) We must receive comments by September 22, 2011.

Affected ADs

(b) None.

Applicability

(c) This AD applies to Diamond Aircraft Industries Model H-36 “DIMONA” powered sailplanes, all serial numbers, certificated in any category.

Subject

(d) Air Transport Association of America (ATA) Code 27: Flight Controls.

Reason

(e) The mandatory continuing airworthiness information (MCAI) states:

A report has been received of a failed air brake control system torsion tube on a Diamond (formerly Hoffman) H 36 powered sailplane. The results of the subsequent investigation show that the failure was due to corrosion damage.

This condition, if not detected and corrected, may lead to failure of the air brake control system in flight, resulting in reduced control of the aeroplane.

To address this unsafe condition, Diamond published Mandatory Service Bulletin (MSB) 36-105, containing instructions to test and inspect the air brake control system torsion tube for corrosion damage and, depending on findings, the application of anticorrosive agent to the inside of the torsion tube, or replacement of the torsion tube with a serviceable part.

For the reasons described above, this new AD requires repetitive tests and inspections of the air brake control system torsion tube and applicable corrective actions, depending on findings.

Actions and Compliance

(f) Unless already done, do the following actions:

(1) Within the next 6 months after the effective date of this AD, remove, test, and inspect the air brake control system torsion tube for corrosion damage following Diamond Aircraft Industries GmbH Work Instruction WI-MSB 36-105, dated April 21, 2011, as specified in Diamond Aircraft Industries GmbH Service Bulletin No. MSB 36-105/1, dated May 2, 2011.

(2) If corrosion damage is found during the inspection required in paragraph (f)(1) of this AD or during any repetitive inspection required in paragraphs (f)(2) and (f)(3) of this AD, before further flight after the inspection in which corrosion damage is found, replace the affected torsion tube with a serviceable part. Before installation, apply an anticorrosive agent to the inside of the torsion tube. Do these required actions following Diamond Aircraft Industries GmbH Work Instruction WI-MSB 36-105, dated April 21, 2011. After replacement, repetitively thereafter at intervals not to exceed 60 months, remove, test, and inspect the newly installed air brake control system torsion tube for corrosion damage following the procedures specified in paragraph (f)(1) of this AD.

(3) If no corrosion damage is found during the inspection required in paragraph (f)(1) of this AD or during any repetitive inspection required in paragraphs (f)(2) and (f)(3) of this AD, before reinstalling the torsion tube, apply an anticorrosive agent to the inside of the torsion tube. Do these required actions following Diamond Aircraft Industries GmbH Work Instruction WI-MSB 36-105, dated April 21, 2011. Repetitively thereafter at intervals not to exceed 60 months, remove, test, and inspect the air brake control system torsion tube for corrosion damage following the procedures specified in paragraph (f)(1) of this AD.

(4) As of the effective date of this AD, do not install an air brake control system torsion tube on an affected airplane unless it has been inspected following the procedures specified in paragraph (f)(1) of this AD, is found to be corrosion free, and an anticorrosive agent has been applied to the inside of the tube as specified in Diamond Aircraft Industries GmbH Work Instruction WI-MSB 36-105, dated April 21, 2011.

Note 1: Credit will be given for the initial test and inspection required in paragraph (f)(1) of this AD and the corrective actions required in paragraphs (f)(2) and (f)(3) of this AD if already done before the effective date of this AD following Diamond Aircraft Industries GmbH Service Bulletin No. MSB 36-105, original issue.

FAA AD Differences

Note 2: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; e-mail: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a Federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

Related Information

(h) Refer to MCAI European Aviation Safety Agency (EASA) AD No. 2011-0110, dated June 16, 2011; Diamond Aircraft Industries GmbH Service Bulletin No. MSB 36-105/1, dated May 2, 2011; and Diamond Aircraft Industries GmbH Work Instruction WI-MSB 36-105, dated April 21, 2011, for related information. For service information related to this AD, contact Diamond Aircraft Industries GmbH, N.A. Otto-Straße 5, A-2700 Wiener Neustadt, Austria, telephone: +43 2622 26700; fax: +43 2622 26780; e-mail: office@diamond-air.at; Internet: http://www.diamond-air.at. You may review copies of the referenced service information at the FAA, Small Airplane Directorate, 901 Locust, Kansas City, Missouri 64106. For information on the availability of this material at the FAA, call (816) 329-4148.

Issued in Kansas City, Missouri, on July 26, 2011.
Steven W. Thompson,
Acting Manager, Small Airplane Directorate, Aircraft Certification Service.

[FR Doc. 2011-20038 Filed 8-5-11; 8:45 am]

BILLING CODE 4910-13-P